DEPARTMENT OF HEALTH AND HUMAN SERVICES

Centers for Disease Control and Prevention

[30Day-08-0026]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an email to omb@cdc.gov. Send written comments to CDC Desk Officer, Office of Management and Budget, Washington, DC or by fax to (202) 395-6974. Written comments should be received within 30 days of this notice.

Proposed Project

Report of Verified Case of Tuberculosis (RVCT), (OMB No. 0920-0026)—Revision—National Center for HIV/AIDS, Viral Hepatitis, STD, and TB Prevention (NCHHSTP), Centers for Disease Control and Prevention (CDC).

Background and Brief Description

In the United States, an estimated 10 to 15 million people are infected with Mycobacterium tuberculosis and about 10% of these persons will develop tuberculosis (TB) disease at some point in their lives. TB is a reportable disease in every state. National TB surveillance has been conducted and maintained by the U.S. Public Health Service and CDC through the cooperation of the states since 1953.

Data are collected by 60 reporting areas (the 50 states, the District of Columbia, New York City, Puerto Rico, and 7 jurisdictions in the Pacific and Caribbean). CDC's Division of Tuberculosis Elimination (DTBE) has revised the Report of Verified Case of Tuberculosis (RVCT) data collection instrument, which has been in use since 1993. The increase in burden hours is due to the addition of information on new clinical diagnostic tests and factors to identify high-risk patients. The revision captures changes in the diagnosis and treatment of TB, and improves the monitoring of trends in TB epidemiology and outbreaks and support CDC in developing strategies to meet the national goal of TB elimination.

In 2001, DTBE initiated a comprehensive review of the RVCT with stakeholders and partner organizations. This review resulted in the revision of the data collection form in 2007.

The reporting areas use and analyze their RVCT data to monitor local TB trends, evaluate program success, and focus resources to eliminate TB. CDC uses the RVCT data to monitor national trends by demographics, risk, and region. These summaries are published annually in CDC-sponsored publications, journals, and are submitted as Agency reports to the Congress.

CDC is requesting approval for approximately 8050 burden hours, an estimated increase of 490 hours. There is no cost to respondents other than their time. The total estimated annualized burden hours are 8050.

Estimate of Annualized Burden Hours
Types of respondents | Number of respondents | Number of responses per respondent | Average burden per response (in hours)
Local, state, and territorial health departments | 60 | 230 | 35/60

Dated: January 30, 2008.
Maryam I. Daneshvar,
Acting Reports Clearance Officer, Centers for Disease Control and Prevention.

[FR Doc. E8-2214 Filed 2-6-08; 8:45 am]

BILLING CODE 4163-18-P